FEDERAL COMMUNICATIONS COMMISSION

[CC Docket No. 92-237; DA 01-1311]

Next Meeting of the North American Numbering Council

AGENCY: Federal Communications Commission.

ACTION: Notice.

SUMMARY: On May 30, 2001, the Commission released a public notice announcing the June 18-19, 2001, meeting and agenda of the North American Numbering Council (NANC). The intended effect of this action is to make the public aware of the NANC's next meeting and its agenda.

FOR FURTHER INFORMATION CONTACT: Deborah Blue, Special Assistant to the Designated Federal Officer (DFO) at (202) 418-2320 or dblue@fcc.gov. The address is: Network Services Division, Common Carrier Bureau, Federal Communications Commission, The Portals II, 445 12th Street, SW., Suite 6A207, Washington, DC 20554. The fax number is: (202) 418-2345. The TTY number is: (202) 418-0484.

SUPPLEMENTARY INFORMATION: Released: May 30, 2001.

The North American Numbering Council (NANC) has scheduled a meeting to be held Monday, June 18, 2001, from 1 p.m. until 5 p.m., and on Tuesday, June 19, 2001, from 8:30 a.m., until 5 p.m. The meeting will be held at the Federal Communications Commission, Portals II, 445 12th Street, SW., Room TW-C305, Washington, DC.

This meeting is open to members of the general public. The FCC will attempt to accommodate as many participants as possible. The public may submit written statements to the NANC, which must be received two business days before the meeting. In addition, oral statements at the meeting by parties or entities not represented on the NANC will be permitted to the extent time permits. Such statements will be limited to five minutes in length by any one party or entity, and requests to make an oral statement must be received two business days before the meeting. Requests to make an oral statement or provide written comments to the NANC should be sent to Deborah Blue at the address under FOR FURTHER INFORMATION CONTACT, stated above.

Proposed Agenda

1. Approval of February 20-21, 2001, March 20-21, 2001, and April 17-18, 2001 meeting minutes

2. North American Numbering Plan Administrator (NANPA) Report

—Status of 500/900 NRUF

—Comparison of NRUF & Assigned Numbers Data

—NPA Exhaust Projections (from NRUF)

3. Report of NANPA Oversight Working Group

—2000 NANPA Performance Results

—NANPA Performance Issues (if any)

—NANPA Technical Requirements Status (due in Sept.)

4. Report of Numbering Resource Optimization (NRO) Working Group

—Refined NANP-Exhaust Assumptions

—State Pooling Trials (if any to report)

5. Review of current NANC Charter

6. CIC IMG Report

—Review Report to FCC

7. Industry Numbering Committee Report

—ATIS Tutorial on INC Structure

8. Steering Group Meeting

—Table of NANC Projects

9. Steering Group Report

10. Report of NANP Expansion/Optimization IMG

11. Report of the Local Number Portability Administration (LNPA) Working Group

—Wireless Number Portability Subcommittee

12. Report from NBANC

13. Report of Cost Recovery Working Group

14. Oversight of LLCs NPAC

15. Guidelines IMG Report

—Finalize Operating Principles

16. Reseller CIC IMG Report

—Final Report Transmitted to FCC

17. Action Items

18. Public Participation (5 minutes each, if any)

19. Other Business

Federal Communications Commission.
Diane Griffin Harmon,
Acting Chief, Network Services Division, Common Carrier Bureau.

[FR Doc. 01-13895 Filed 6-1-01; 8:45 am]

BILLING CODE 6712-01-P